DEPARTMENT OF HEALTH AND HUMAN SERVICES

Centers for Disease Control and Prevention

Cooperative Agreement for the Surveillance, and Prevention of Birth Defects

Announcement Type: New.

Funding Opportunity Number: RFA 05006.

Catalog of Federal Domestic Assistance Number: 93.283.

Application Deadline: December 21, 2004.

I. Funding Opportunity Description

Authority: This program is authorized under sections 317(k)(2) of the Public Health Service Act [42 U.S.C. 247b(k)(2)].

Purpose: The purpose of the program is to promote international surveillance and prevention of birth defects. This program addresses the “Healthy People 2010” focus area(s) of Maternal, Infant and Child Health.

Measurable outcomes of the program will be in alignment with one of the following performance goal(s) for the National Center on Birth Defects and Developmental Disabilities (NCBDDD): (1) Prevent birth defects and developmental disabilities (2) improve the health and quality of life of Americans with disabilities.

This announcement is only for non-research activities supported by CDC. If research is proposed, the application will not be reviewed. For the definition of research, please see the CDC web site at the following Internet address: http://www.cdc.gov/od/ads/opspoll1.htm

Activities: Awardee activities for this program are as follows:

• Develop and/or maintain an international birth defects database that includes data from developed and developing countries from different areas of the world.

• Promote and operate an international collaboration and data clearinghouse among international partners and birth defect registries that enables international collaborative birth defect surveillance, epidemiologic assessment, and capacity building.

• Using such international partners and the international birth defects database, evaluate, compare and confirm patterns and trends of birth defects occurrences.

• Obtain, compile, and publish birth defect surveillance data from areas in the developed and developing world to assess the impact of birth defects.

• In collaboration with international partners, conduct secondary data analyses in order to evaluate potential birth defect risk factors and identify areas in need of epidemiologic assessments.

• Disseminate the birth defect surveillance data to member programs, partners such as national and international organizations, the World Health Organization, other health agencies, and other interested parties.

• Evaluate the changes in the occurrence of selected adverse reproductive outcomes likely to be prevented by folic acid (e.g., neural tube defects, oral clefts, and certain heart defects) in relation to folic acid policies that have been instituted in different areas of the world, including the Americas, Europe, the Middle East, Asia, and Africa.

• Promote or develop tools and guidelines to assist the development of birth defects surveillance activities in both developed and developing countries.

In a cooperative agreement, CDC staff is substantially involved in the program activities, above and beyond routine grant monitoring.

CDC Activities for this program are as follows:

• Assist, if requested, in designing, developing, and evaluating methodologies and approaches used for population-based birth defects surveillance.

• Assist, if requested, in analyzing surveillance data related to birth defects.

• Assist, if requested, in providing scientific consultation and assistance in the study of birth defects and in the approaches to study design, methodology, and implementation in the conduct of secondary data analyses.

• Assist, if requested, in the definition and format of the birth defect surveillance reports.

• Assist, if requested in developing tools and guidelines for birth defect surveillance.

II. Award Information

Type of Award: Cooperative Agreement. CDC involvement in this program is listed in the Activities Section above.

Fiscal Year Funds: 2005.

Approximate Total Funding: $150,000 (This amount is an estimate, and is subject to availability of funds.)

Approximate Number of Awards: One.

Approximate Average Award: $150,000 (This amount is for the first 12-month budget period.).

Floor of Award Range: None.

Ceiling of Award Range: None.

Anticipated Award Date: April 1, 2005.

Budget Period Length: 12-months.

Project Period Length: Up to three years.

Throughout the project period, CDC's commitment to continuation of awards will be conditioned on the availability of funds, evidence of satisfactory progress by the recipient (as documented in required reports), and the determination that continued funding is in the best interest of the Federal Government.

III. Eligibility Information

III.1. Eligible Applicants

• Applications may be submitted by private nonprofit organizations.

III.2. Cost Sharing or Matching

Matching funds are not required for this program.

III.3. Other

CDC will accept and review applications with budgets greater than the ceiling of the award range.

Special Requirements: If your application is incomplete or non-responsive to the special requirements listed in this section, it will not be entered into the review process. You will be notified that your application did not meet submission requirements.

• Late applications will be considered non-responsive. See section “IV.3. Submission Dates and Times” for more information on deadlines.

• Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161. Application forms and instructions are available on the CDC web site, at the following Internet address: www.cdc.gov/od/pgo/forminfo.htm.

If you do not have access to the Internet, or if you have difficulty accessing the forms on-line, you may contact the CDC Procurement and Grants Office Technical Information Management Section (PGO-TIM) staff at: 770-488-2700. Application forms can be mailed to you.

IV.2. Content and Form of Submission

Application: You must submit a project narrative with your application forms. The narrative must be submitted in the following format:

• Maximum number of pages: 25 if your narrative exceeds the page limit, only the first pages which are within the page limit will be reviewed.

• Font size: 12 point unreduced.

• Double spaced.

• Paper size: 8.5 by 11 inches.

• Page margin size: One inch.

• Printed only on one side of page.

• Held together only by rubber bands or metal clips; not bound in any other way.

Your narrative should address activities to be conducted over the entire project period, and must include the following items in the order listed:

• Objectives.

• Methods.

• Evaluation.

• Organizational and Program Personnel Capability.

• Program Plan.

• Budget and Justification (Not included in page limitation).

Additional information may be included in the application appendices. The appendices will not be counted toward the narrative page limit. This additional information includes:

Curriculum Vitaes.

Organizational Charts.

Letters of Support.

You are required to have a Dun and Bradstreet Data Universal Numbering System (DUNS) number to apply for a grant or cooperative agreement from the Federal government. The DUNS number is a nine-digit identification number, which uniquely identifies business entities. Obtaining a DUNS number is easy and there is no charge. To obtain a DUNS number, access www.dunandbradstreet.com or call 1-866-705-5711.

For more information, see the CDC web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

Application Deadline Date: December 21, 2004.

Explanation of Deadlines: Applications must be received in the CDC Procurement and Grants Office by 4 p.m. Eastern Time on the deadline date. If you submit your application by the United States Postal Service or commercial delivery service, you must ensure that the carrier will be able to guarantee delivery by the closing date and time. If CDC receives your submission after closing due to: (1) Carrier error, when the carrier accepted the package with a guarantee for delivery by the closing date and time, or (2) significant weather delays or natural disasters, you will be given the opportunity to submit documentation of the carriers guarantee. If the documentation verifies a carrier problem, CDC will consider the submission as having been received by the deadline.

This announcement is the definitive guide on LOI and application content, submission address, and deadline. It supersedes information provided in the application instructions. If your submission does not meet the deadline above, it will not be eligible for review, and will be discarded. You will be notified that you did not meet the submission requirements.

CDC will not notify you upon receipt of your submission. If you have a question about the receipt of your LOI or application, first contact your courier. If you still have a question, contact the PGO-TIM staff at: 770-488-2700. Before calling, please wait two to three days after the submission deadline. This will allow time for submissions to be processed and logged.

IV.4. Intergovernmental Review of Applications

Executive Order 12372 does not apply to this program.

IV.5. Funding restrictions

Restrictions as found in 45 CFR Parts 74 and 92 and OMB Circular 1-122, which must be taken into account while writing your budget, are as follows:

• Funds may not be used for research.

• Reimbursement of pre-award costs is not allowed.

• Funds may be spent for reasonable program purposes, including personnel, travel, supplies, and services. Equipment may be purchased if deemed necessary to accomplish program objectives, however, prior approval by CDC officials must be requested in writing.

• The costs that are generally allowable in grants to domestic organizations are allowable to foreign institutions and international organizations, with the following exception: With the exception of the American University, Beirut and the World Health Organization, Indirect Costs will not be paid (either directly or through sub-award) to organizations located outside the territorial limits of the United States or to international organizations regardless of their location.

• The applicant may contract with other organizations under this program; however the applicant must perform a substantial portion of the activities (including program management and operations, and delivery of prevention services for which funds are required.)

• All requests for funds contained in the budget, shall be stated in U.S. dollars. Once an award is made, CDC will not compensate foreign grantees for currency exchange fluctuations through the issuance of supplemental awards.

• You must obtain annual audit of these CDC funds (program-specific audit) by a U.S.-based audit firm with international branches and current licensure/authority in-country, and in accordance with International Accounting Standards or equivalent standard(s) approved in writing by CDC.

• A fiscal Recipient Capability Assessment may be required, prior to or post award, in order to review the applicant's business management and fiscal capabilities regarding the handling of U.S. Federal funds.

Guidance for completing your budget can be found on the CDC Web site, at the following Internet address: http://www.cdc.gov/od/pgo/funding/budgetguide.htm.

IV.6. Other Submission Requirements

Application Submission Address: Submit the original and two hard copies of your application by mail or express delivery service to: Technical Information Management—RFA#05006, CDC Procurement and Grants Office, 2920 Brandywine Road, Atlanta, GA 30341.

Applications may not be submitted electronically at this time.

V. Application Review Information

V.1. Criteria

Applicants are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Objectives (30 Points)

Are the proposed objectives specific, measurable, and time-phased?

2. Methods (30 Points)

Are the proposed methods feasible? To what extent are the proposed methods likely to lead to the accomplishment of the proposed objectives?

3. Evaluation (15 Points)

Does the evaluation plan enable the applicant to determine the success of its activities and the benefits provided?

4. Personnel (15 Points)

Do the staff members have the experience, skills, and ability to develop and improve birth defects surveillance data to develop prevention programs and improve access to health services or early intervention programs? Are the staff roles clearly defined?

5. Project Plan (10 Points)

Is the plan adequate to carry out the proposed objectives? Does the applicant have a clear, concise understanding of the program requirements, objectives and purpose of the cooperative agreement?

Also, does the applicant meet the CDC Policy requirements regarding the inclusion of women, ethnic, and racial groups in the proposed research?

This includes:

a. The proposed plan for the inclusion of both sexes and racial and ethnic minority populations for appropriate representation.

b. The proposed justification when representation is limited or absent.

c. A statement as to whether the design of the study is adequate to measure differences when warranted.

d. A statement as to whether the plans for recruitment and outreach for study participants include the process of establishing partnerships with community(ies) and recognition of mutual benefits.

6. Budget and Justification (Reviewed, But Not Scored)

V.2. Review and Selection Process

Applications will be reviewed for completeness by the Procurement and Grants Office (PGO) staff, and for responsiveness by NCBDDD. Incomplete applications and applications that are non-responsive to the eligibility criteria will not advance through the review process. Applicants will be notified that their application did not meet submission requirements.

An objective review panel will evaluate complete and responsive applications according to the criteria listed in the “V.1. Criteria” section above.

Applications will be funded in order by score and rank determined by the review panel.

CDC will provide justification for any decision to fund out of rank order.

V.3. Anticipated Announcement and Award Dates

April 1, 2005.

VI. Award Administration Information

VI.1. Award Notices

Successful applicants will receive a Notice of Grant Award (NGA) from the CDC Procurement and Grants Office. The NGA shall be the only binding, authorizing document between the recipient and CDC. The NGA will be signed by an authorized Grants Management Officer, and mailed to the recipient fiscal officer identified in the application.

Unsuccessful applicants will receive notification of the results of the application review by mail.

VI.2. Administrative and National Policy Requirements

45 CFR Parts 74 and 92.

For more information on the Code of Federal Regulations, see the National Archives and Records Administration at the following Internet address: http://www.access.gpo.gov/nara/cfr/cfr-table-search.html.

The following additional requirements apply to this project:

• AR-10 Smoke-Free Workplace Requirements.

• AR-11 Healthy People 2010.

• AR-12 Lobbying Restrictions.

• AR-14 Accounting System Requirements.

• AR-15 Proof of Non-Profit Status.

• AR-25 Release and Sharing of Data.

Additional information on these requirements can be found on the CDC web site at the following Internet address: http://www.cdc.gov/od/pgo/funding/ARs.htm.

VI.3. Reporting Requirements

You must provide CDC with an original, plus two hard copies of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness.

f. Additional Requested Information.

2. Financial status report and annual progress report, no more than 90 days after the end of the budget period.

3. Final financial and performance reports, no more than 90 days after the end of the project period.

These reports must be mailed to the Grants Management or Contract Specialist listed in the “Agency Contacts” section of this announcement.

VII. Agency Contacts

We encourage inquiries concerning this announcement. For general questions, contact: Technical Information Management Section, CDC Procurement and Grants Office, 2920 Brandywine Road, Atlanta, GA 30341, Telephone: (770) 488-2700.

For program technical assistance, contact: J. David Erickson, Project Officer, CDC, NCBDDD, 1600 Clifton Road, NE (E86), Atlanta, GA 30333, Telephone: (404) 498-3825, E-mail: DErickson@cdc.gov.

For financial, grants management, or budget assistance, contact: Steward Nichols, Contract Specialist, CDC Procurement and Grants Office, 2920 Brandywine Road, Atlanta, GA 30341, Telephone: (770) 488-2788, E-mail: SNichols@cdc.gov.

VIII. Other Information

This and other CDC funding opportunity announcements can be found on the CDC web site, Internet address: http://www.cdc.gov. Click on “Funding” then “Grants and Cooperative Agreements.”

Information on the National Center on Birth Defects and Developmental Disabilities may be found on http://www.cdc.gov. Click on “Birth Defects.”

Dated: October 18, 2004.
William P. Nichols,
Acting Director, Procurement and Grants Office, Centers for Disease Control and Prevention.

[FR Doc. 04-23726 Filed 10-21-04; 8:45 am]

BILLING CODE 4163-18-P